DEPARTMENT OF COMMERCE

International Trade Administration

[A-201-805]

Certain Circular Welded Non-Alloy Steel Pipe From Mexico: Final Results and Partial Rescission of the 2010-2011 Antidumping Duty Administrative Review

AGENCY: Import Administration, International Trade Administration, Department of Commerce.

SUMMARY: On December 11, 2012, the Department of Commerce (the Department) published the preliminary results of the administrative review of the antidumping duty order on certain circular welded non-alloy steel pipe from Mexico.¹ This administrative review covers five respondents: PYTCO, S.A. de C.V. (PYTCO); Conduit, S.A. de C.V. (Conduit); Mueller Comercial de Mexico, S. de R.L. de C.V. (Mueller); Lamina y Placa Comercial, S.A. de C.V. (Lamina y Placa); and Tuberia Nacional, S.A. de C.V. (TUNA). The period of review (POR) is November 1, 2010 through October 31, 2011. We determine that PYTCO had one suspended entry but no reviewable sales during the POR, and that Conduit, Mueller, Lamina y Placa and TUNA had no reviewable sales of subject merchandise during the POR.

¹ See Certain Circular Welded Non-Alloy Steel Pipe From Mexico: Preliminary Results and Partial Rescission of Antidumping Duty Administrative Review; 2010-11, 77 FR 73617 (December 11, 2012) (Preliminary Results).

DATES: As of June 7, 2013.

FOR FURTHER INFORMATION CONTACT: Mark Flessner or Robert James, AD/CVD Operations, Office 7, Import Administration, International Trade Administration, U.S. Department of Commerce, 14th Street and Constitution Avenue NW., Washington, DC 20230; telephone: (202) 482-6312 and (202) 482-0649, respectively.

SUPPLEMENTARY INFORMATION:

Background

On December 11, 2012, the Department published in the Federal Register the preliminary results of the administrative review of the antidumping duty order on certain circular welded non-alloy steel pipe from Mexico for the period November 1, 2010, to October 31, 2011. See Preliminary Results. In the Preliminary Results, the Department preliminarily rescinded this administrative review with respect to five additional respondents for which reviews had been initiated but subsequently timely withdrawn.² These rescissions included the other mandatory respondent, Ternium Mexico, S.A. de C.V., which also had been selected for individual examination.

² In accordance with 19 CFR 351.213(d)(1), we preliminarily rescinded the administrative review with respect to the companies named in the Initiation Notice for which no request for administrative review remained on the record of this proceeding, to wit: Galvak, S.A. de C.V. (Galvak); Hylsa, S.A. de C.V. (Hylsa); Industrias Monterrey S.A. de C.V. (IMSA); Southland Pipe Nipples Co., Inc. (Southland); and Ternium Mexico, S.A. de C.V. (Ternium). Ternium was selected as a mandatory respondent prior to petitioners' withdrawal of the request for review with respect to Ternium. See Initiation of Antidumping and Countervailing Duty Administrative Reviews and Request for Revocation in Part, 76 FR 82268 (December 30, 2011) (Initiation Notice); see also Preliminary Results.

In response to the Department's invitation to comment on the Preliminary Results, domestic interested parties Allied Tube and Conduit and TMK-IPSCO filed a case brief on January 10, 2013. Respondent PYTCO filed a rebuttal brief on January 15, 2013.

Scope of the Order

The products covered by this order are circular welded non-alloy steel pipes and tubes, of circular cross-section, not more than 406.4 millimeters (16 inches) in outside diameter, regardless of wall thickness, surface finish (black, galvanized, or painted), or end finish (plain end, beveled end, threaded, or threaded and coupled).³ The merchandise covered by the order and subject to this review is currently classified in the Harmonized Tariff Schedule of the United States (HTSUS) at subheadings: 7306.30.10.00, 7306.30.50.25, 7306.30.50.32, 7306.30.50.40, 7306.30.50.55, 7306.30.50.85, and 7306.30.50.90. Although the HTSUS subheadings are provided for convenience and customs purposes, our written description of the scope of these proceedings is dispositive.

³ For the complete scope of this order, see Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (Antidumping Duty Order).

Analysis of Comments Received

All issues raised in the case brief and the rebuttal brief are addressed in the Issues and Decision Memorandum (Decision Memorandum) from Christian Marsh, Deputy Assistant Secretary for Antidumping and Countervailing Duty Operations, to Ronald K. Lorentzen, Acting Assistant Secretary for Import Administration, dated May 30, 2013, which is hereby adopted by this notice. A list of the issues raised is attached to this notice as Appendix I. The Decision Memorandum is a public document and is on file electronically via Import Administration's Antidumping and Countervailing Duty Centralized Electronic Service System (IA ACCESS). Access to IA ACCESS is available to registered users at http://iaaccess.trade.gov, and to all parties in the Central Records Unit (CRU), room 7046 of the main Department of Commerce building. In addition, a complete version of the Issues and Decision Memorandum can be accessed directly on the internet at http://www.trade.gov/ia/. The signed Issues and Decision Memorandum and the electronic versions of the Issues and Decision Memorandum are identical in content.

Mandatory Respondents

As stated in the Preliminary Results, PYTCO submitted a claim that it “did not have any exports, sales, or entries of subject merchandise to the United States” during the POR. While CBP data showed that PYTCO had an antidumping suspended entry during the POR, ample record evidence indicated that this shipment did not involve an actual sale; no other reviewable sales were reflected in the CBP data. No information or argument since the Preliminary Results has changed this determination. Therefore, we have not calculated a weighted-average dumping margin for PYTCO in these final results.

As stated above, the request for administrative review of Ternium, which had been selected as a mandatory respondent, was timely withdrawn.

Non-Selected Respondents

The companies for which administrative reviews were requested and not rescinded (see “Partial Rescission of Administrative Review” section of the Preliminary Results at 73618) but were not selected as mandatory respondents are TUNA, Lamina y Placa, Mueller, and Conduit.

TUNA and its successor in interest,⁴ Lamina y Placa, jointly submitted a “no shipments” letter on February 28, 2013. Inquiries were made to CBP to confirm that no shipments by TUNA or Lamina y Placa were recorded at the ports during the POR. No record evidence contradicts the assertion of TUNA and Lamina y Placa that they made no shipments of subject merchandise into the United States. Therefore, we find that TUNA and Lamina y Placa did not make shipments of subject merchandise into the United States during this POR.

⁴ See Notice of Final Results of Antidumping Duty Changed Circumstances Review: Certain Circular Welded Non-Alloy Steel Pipe from Mexico, 75 FR 82374 (December 30, 2010).

Mueller submitted a “no shipments” letter on April 9, 2013. An inquiry was made to CBP to confirm that no shipments by Mueller were recorded at the ports during the POR. No record evidence contradicts the assertion of Mueller that it made no shipments of subject merchandise into the United States. Therefore, we find that Mueller did not make shipments of subject merchandise into the United States during this POR.

Conduit also submitted a claim that “it did not have any exports, sales, or entries of the subject merchandise to the United States” during the POR on April 9, 2013. An inquiry was made to CBP to confirm that no reviewable sales by Conduit were recorded at the ports during the POR. No record evidence contradicts the assertion of Conduit that it made no reviewable sales of subject merchandise into the United States. Therefore, we find that Conduit did not make reviewable sales of subject merchandise into the United States during this POR.

Final Rescissions of Administrative Review

As stated above, all of the requests for administrative review with respect to Galvak, HYLSA, IMSA, Southland, and Ternium were timely withdrawn; the administrative reviews with respect to these five companies were preliminarily rescinded. See Preliminary Results. These administrative reviews are finally rescinded.

Assessment

The Department will determine, and U.S. Customs and Border Protection (CBP) shall assess, antidumping duties on all appropriate entries, pursuant to section 751(a)(1) of the Act and 19 CFR 351.212(b). We will issue appraisement instructions directly to CBP to assess antidumping duties on appropriate entries by applying the assessment rate to the entered value of the merchandise. Pursuant to 19 CFR 356.8(a), the Department intends to issue assessment instructions to CBP 41 days after the date of publication of these final results of review.

The Department clarified its “automatic assessment” regulation on May 6, 2003. See Antidumping and Countervailing Duty Proceedings: Assessment of Antidumping Duties, 68 FR 23954 (May 6, 2003) (reseller policy). This clarification will apply to entries of subject merchandise during the POR for which the exporter did not know its merchandise was destined for the United States. In such instances, we will instruct CBP to liquidate unreviewed entries at the all-others rate if there is no rate for the intermediate company(ies) involved in the transaction.

For PYTCO's no-sale entry, subject merchandise that is entered for consumption but is not sold either in the form as entered or as further manufactured merchandise to an unaffiliated customer in the United States is not subject to antidumping duties because there is no U.S. sale, and, therefore, no dumping in the United States. See Torrington Co. v. United States, 82 F.3d 1039 (Fed. Cir. 1996). Therefore, we will instruct CBP to liquidate this entry without regard to antidumping duties.

For all entries by TUNA, Lamina y Placa, Mueller, and Conduit, we will instruct CBP to assess antidumping duties in accordance with the reseller policy.

Cash Deposit Requirements

The following cash deposit requirements will be effective upon publication of these final results for all shipments of the subject merchandise entered, or withdrawn from warehouse, for consumption, on or after the publication date of these final results of administrative review, consistent with section 751(a)(2)(C) of the Act: (1) The cash deposit rate for the reviewed companies will continue to be the company-specific rates published for the most recently completed segment in which the company participated; (2) for merchandise exported by producers or exporters not covered in this review, but covered in a previous segment of this proceeding, the cash deposit rate will continue to be the company-specific rate published for the most recently completed segment of this proceeding in which that manufacturer or exporter participated; (3) if the exporter is not a firm covered in a prior segment of this proceeding, but the manufacturer is, then the cash deposit rate will be the rate established for the most recently completed segment of this proceeding for the manufacturer of the subject merchandise; and (4) the cash deposit rate for all other manufacturers or exporters will continue to be 32.62 percent, the all-others rate established in the original antidumping investigation.⁵ These deposit requirements, when imposed, shall remain in effect until further notice.

⁵ See Final Determination of Sales at Less Than Fair Value: Circular Welded Non-Alloy Steel Pipe From Mexico, 57 FR 42953 (September 17, 1992).

Notifications

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Tariff Act of 1930, as amended.

Dated: May 30, 2013.
Ronald K. Lorentzen,
Acting Assistant Secretary for Import Administration.

Appendix—List of Issues in Decision Memorandum

Issue 1: Whether PYTCO Had Reviewable Sales

Issue 2: Treating PYTCO and Conduit as a Single Entity and Applying AFA

Issue 3: Whether To Inform CBP that PYTCO Misclassified Entries During the POR

Issue 4: Whether To Order Liquidation of Any Entries Produced and/or Exported by Respondents at the “All Others” Rate

[FR Doc. 2013-13557 Filed 6-6-13; 8:45 am]

BILLING CODE 3510-DS-P